DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by American Museum of Natural History professional staff in consultation with representatives of Native Village of Barrow Inupiat Traditional Government and Ukpeagvik Inupiat Corporation.

In 1912, human remains representing a minimum of 121 individuals were collected by Vilhjalmur Stefansson from Point Barrow, North Slope Borough, AK, during an American Museum of Natural History expedition. No known individuals were identified. No associated funerary objects are present.

In 1912, human remains representing a minimum of one individual were collected by Vilhajlmur Stefansson from Birnirk, three miles northeast of Barrow, North Slope Borough, AK, during an American Museum of Natural History expedition. No known individual was identified. No associated funerary objects are present.

These individuals have been identified as Native American based on geographic information and documentation at the American Museum of Natural History. Consultation with tribal representatives, geographic location, and documentation at the American Museum of Natural History suggest that a relationship exists between contemporary inhabitants of the Native Village of Barrow Inupiat Traditional Government and these human remains from Point Barrow, AK, and Birnirk, AK.

Based on the above-mentioned information, officials of the American Museum of Natural History have determined that, pursuant to 43 CFR 10.2 (d)(1), the human remains listed above represent the physical remains of a minimum of 122 individuals of Native American ancestry. Officials of the American Museum of Natural History also have determined that, pursuant to 43 CFR 10.2 (e), there is a relationship of shared group identity that can be reasonably traced between these Native American human remains and the Native Village of Barrow Inupiat Traditional Government and Ukpeagvik Inupiat Corporation.

This notice has been sent to officials of the Native Village of Barrow Inupiat Traditional Government and Ukpeagvik Inupiat Corporation. Representatives of any other Indian tribe that believes itself to be culturally affiliated with these human remains should contact Elaine Guthrie, Acting Director of Cultural Resources, American Museum of Natural History, Central Park West at 79th Street, New York, NY 10024-5192, telephone (212) 769-5835, before July 18, 2002. Repatriation of the human remains to the Native Village of Barrow Inupiat Traditional Government and Ukpeagvik Inupiat Corporation may begin after that date if no additional claimants come forward.

Dated: April 25, 2002.
Robert Stearns,
Manager, National NAGPRA Program.

[FR Doc. 02-15293 Filed 6-17-02; 8:45 am]

BILLING CODE 4310-70-S